ENVIRONMENTAL PROTECTION AGENCY

[ER-FRL-6661-9]

Environmental Impact Statements; Notice of Availability

Responsible Agency: Office of Federal Activities, General Information (202) 564-7167 or http://www.epa.gov/compliance/nepa/.

Weekly receipt of Environmental Impact Statements filed March 21, 2005, through March 25, 2005, pursuant to 40 CFR 1506.9.

EIS No.050128, Draft EIS, AFS, ID, Porcupine East, 9 Allotment Grazing Analysis Project, Authorizing Livestock Grazing, Caribou-Targhee National Forest, Dubois Ranger District, Cenntenial Mountains, Clark County, ID, Comment Period Ends: May 9, 2005, Contact: Shane Q. Jacobson (208) 374-5422. The above NOA EIS should have appeared in the 03/25/2005 Federal Register. The 45-Day Comment Period is Calculated from 03/25/2005.

EIS No. 050129, Final EIS, AFS, UT, Duck Creek Fuels Treatment Analysis, To Reduce Fuels, Enhance Fire-Tolerant Vegetation and Provide Fuel Breaks, Dixie National Forest, Cedar City Ranger District, Kane County, UT, Wait Period Ends: May 2, 2005, Contact: David Swank (435) 865-3700.

EIS No. 050130, Final EIS, AFS, WI, Lakewood/Laona Plantation Thinning Project, To Implement Vegetation Management Activities, Chequamegon-Nicolet National Forest, Lakewood Ranger District, Forest, Langlade and Oconto Counties, WI, Wait Period Ends: May 2, 2005, Contact: Anne F. Archie (715) 362-1300.

EIS No. 050131, Draft EIS, FHW, VA, Tri-County Parkway Location Study, Construction of a New North-South Transportation Link to Connect the City of Manassas with I-66, Funding and U.S. COE Section 404 Permit, Prince William, Fairfax and Loudoun Counties, VA, Comment Period Ends: May 23, 2005, Contact: Ed Sundra (804) 775-3338.

EIS No. 050132, Final EIS, BLM, CA, West Mojave Plan, Habitat Conservation Plan and Federal Land Use Plan Amendment, Implementation, California Desert Conservation Area, Portions of San Bernardino, Kern, Inyo, and Los Angeles Counties, CA Wait Period Ends: May 2, 2005, Contact: Alan Stein (951) 697-5382.

EIS No. 050133, Draft EIS, AFS, OH, Wayne National Forest, Proposed Revised Land and Resource Management Plan, Implementation, Several Counties, OH, Comment Period Ends: June 30, 2005, Contact: Bob Gianniny (740) 753-0101.

EIS No. 050134, Draft EIS, AFS, ID, UT, WY, Caribou Travel Plan Revision, Determine the Motorized Road and Trail System, Implementation, Caribou-Targhee National Forest, Westside, Soda Spring and Montpelier Ranger Districts, Bannock, Bear River, Bonneville, Caribou, Franklin, Oneida and Power Counties, ID; Box Elder and Cache Counties, UT and Lincoln County, WY, Comment Period Ends: May 16, 2005, Contact: Deb Tiller (208) 524-7500.

EIS No. 050135, Draft Supplement, COE, FL, Herbert Hoover Dike Major Rehabilitation Evaluation Study, Proposed to Reduce the Probability of a Breach of Reach One, Lake Okeechobee, Martin and Palm Beach Counties, FL, Comment Period Ends: May 16, 2005, Contact: Rebecca Weiss (904) 232-1577.

EIS No. 050136, Draft EIS, AFS, CO, Dry Fork Federal Coal Lease-by-Application (COC-67232), Leasing Additional Federal Coal Lands for Underground Coal Resource, Special-Use-Permits and U.S. Army COE Section 404 Permit, Grand Mesa, Uncompahgre and Gunnison National Forests, Gunnison County, CO, Comment Period Ends: May 16, 2005, Contact: Liane Mattson (970) 844-6697.

EIS No. 050137, Draft EIS, AFS, VT, Green Mountain National Forest, Propose Revised Land and Resource Management Plan, Implementation, Forest Plan Revision, Addison, Bennington, Rutland, Washington, Windham and Windsor Counties, VT, Comment Period Ends: June 30, 2005, Contact: Jay Strand (802) 767-4261.

EIS No. 050138, Draft Supplement, NIH, MA, National Emerging Infectious Disease Laboratories, Additional Information on Two Alternatives, Construction of National Biocontainment Laboratory, BioSquare Research Park, Boston University Medical Center Campus, Boston, MA, Comment Period Ends: May 18, 2005, Contact: Valerie Nottingham (301) 496-7775.

Amended Notices

EIS No. 050063, Final EIS, AFS, UT, Monticello and Blanding Municipal Watershed Improvement Projects, Implementation, Manti-La Sal National Forest, Monticello Ranger District, San Juan County, UT, Due: March 21, 2005, Contact: Greg T. Montgomery (435) 636-3348. Published FR—02-18-05—Retracted due to noncompliance of Section 1506.9 of the Council on Environmental Quality Regulations.

EIS No. 050111, Draft EIS, AFS, CA, Power Fire Restoration Project, To Reduce Long-Term Fuel Loading for the Purpose of Reducing Future Severity and Resistance to Control, Amador Ranger District, Eldorado National Forest, Amador County, CA, Comment Period Ends: May 9, 2005, Contact: Patricia Ferrell (530) 642-5146. Revision of FR Notice Published on 3/25/2005: Correction to CEQ Comment Period from March 9, 2005 to May 9, 2005.

Dated: March 29, 2005.
Robert W. Hargrove,
Director, NEPA Compliance Division, Office of Federal Activities.

[FR Doc. 05-6490 Filed 3-31-05; 8:45 am]

BILLING CODE 6560-50-P